FEDERAL COMMUNICATIONS COMMISSION

[Report No. 2454]

Petitions for Reconsideration of Action in Rulemaking Proceedings

December 5, 2000.

Petitions for Reconsideration have been filed in the Commission's rulemaking proceedings listed in this Public Notice and published pursuant to 47 CFR Section 1.429(e). The full text of this document is available for viewing and copying in Room CY-A257, 445 12th Street, S.W., Washington, DC or may be purchased from the Commission's copy contractor, ITS, Inc. (202) 857-3800. Oppositions to these petitions must be filed by (Insert date of 15 days after Publication in Federal Register). See Section 1.4(b)(1) of the Commission's rules (47 CFR 1.4(b)(1)). Replies to an opposition must be filed within 10 days after the time for filing oppositions have expired.

Subject: Amendment of Section 73.622(b), Table of Allotments, Digital Television Broadcast Stations (Urbana, II) (MM Docket No. 00-76, RM-9809).

Number of Petitions Filed: 1.

Subject: Amendment of Section 73.202(b) Table of Allotments FM Broadcast Stations (Sparta and Buckhead, GA) (MM Docket No. 00-101, RM-9885).

Number of Petitions Filed: 1.

Subject: The Establishment of Policies and Service Rules for the Mobile-Satellite Service in the 2 GHz Band (IB Docket No. 99-81).

Number of Petitions Filed: 3.

Federal Communications Commission.
Magalie Roman Salas,
Secretary.

[FR Doc. 00-31663 Filed 12-12-00; 8:45 am]

BILLING CODE 6712-01-M